DEPARTMENT OF ENERGY

Federal Energy Regulatory Commission

[Docket No. AD22-9-000]

New England Winter Gas-Electric Forum; Supplemental Notice of Second New England Winter Gas-Electric Forum

As announced in the Notice of Forum and the Supplemental Notices of Forum issued in this proceeding on February 16, 2023, April 13, 2023, and May 26, 2023, respectively, the Federal Energy Regulatory Commission (Commission) will convene a Commissioner-led forum on Tuesday, June 20, 2023, to discuss possible solutions to the electricity and natural gas challenges facing the New England region. Attached to this notice are questions for the panelists; we request panelists file position statements addressing these questions in this docket. Written responses to these questions are voluntary and will be used to supplement the record for discussion at the forum.

Please note that the start time for the forum has been changed to 8:30 a.m. Eastern Time. The final agenda for this forum is attached, which includes updated panel times and a final list of forum panelists.

While the forum is not for the purpose of discussing any specific matters before the Commission, some forum discussions may involve issues raised in proceedings that are currently pending before the Commission. These proceedings include, but are not limited to, the cases listed below. Additions to the list appear in italics:

| Docket Nos.
Constellation Mystic Power LLC | ER18-1639-000, ER18-1639-014, ER18-1639-015, ER18-1639-018, ER18-1639-021, ER18-1639-023, ER18-1639-024.
ISO New England Inc | ER19-1428-000, ER19-1428-001, ER19-1428-002, ER19-1428-003, ER19-1428-004, ER19-1428-005, ER19-1428-006.
NextEra Energy Seabrook, LLC | EL21-3-000, EL21-3-001.
NECEC Transmission LLC and Avangrid, Inc. v. NextEra Energy Resources, LLC | EL21-6-000, EL21-6-001.
ISO New England Inc | ER23-1588-000.

The forum will be open to the public and be held at the DoubleTree by Hilton Portland, 363 Maine Mall Rd., Portland, ME 04106. Registration for in-person attendance is required, and there is no fee for attendance. A link to attendee registration is available on the New England Winter Gas-Electric Forum event page on the Commission's website. Due to space constraints, seating for this event will be limited and registrants that get a confirmed space will be contacted via email. Only confirmed registrants will be admitted to the forum given the maximum occupancy limit at the venue (as required by fire and building safety code). Therefore, the Commission encourages members of the public who wish to attend this event in person to register at their earliest convenience. Online registration will be open until June 19, the day before the forum, or as long as attendance capacity is available. Once registration has reached capacity, registration will be closed. However, those interested in attending after capacity has been reached can join a waiting list (using the same registration link) and be notified if space becomes available. Those who are unable to attend in person may watch the free webcast.

The webcast will allow persons to listen and observe the forum remotely but not participate. Information on this forum, including a link to the webcast, will be posted prior to the event on this forum's event page on the Commission's website. A recording of the webcast will be made available after the forum in the same location on the Calendar of Events. The forum will be transcribed. Transcripts of the forum will be available for a fee from Ace-Federal Reporters, Inc. (202-347-3700).

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact NewEnglandForum@ferc.gov or sarah.mckinley@ferc.gov for technical or logistical questions.

Dated: June 13, 2023.
Kimberly D. Bose,
Secretary.

[FR Doc. 2023-13077 Filed 6-16-23; 8:45 am]

BILLING CODE 6717-01-P